DEPARTMENT OF COMMERCE

Foreign-Trade Zones Board

[Docket 12-2005]

Foreign-Trade Zone 147—Reading, PA Application for Expansion/Reorganization

An application has been submitted to the Foreign-Trade Zones Board (the Board) by the Foreign-Trade Zone Corporation of Southeastern Pennsylvania, grantee of FTZ 147, requesting authority to expand FTZ 147, in the south central Pennsylvania, area, adjacent to the Harrisburg Customs port of entry. The application was submitted pursuant to the provisions of the Foreign-Trade Zones Act, as amended (19 U.S.C. 81a-81u), and the regulations of the Board (15 CFR part 400). It was formally filed on March 1, 2005.

FTZ 147 was approved on June 28, 1988 (Board Order 378; 53 FR 26094, 07/11/88), at sites in Berks County in southeastern Pennsylvania, adjacent to the Philadelphia U.S. Customs port of entry. The zone project currently consists of the following sites in the southeastern and south central Pennsylvania area: Site 1 (865 acres)—Reading Municipal Airport complex, 2502 Bernville Road, Berks County; Site 2 (7 acres)—Second Street and Grand Street, Hamburg (Berks County); Site 3 (161 acres)—Excelsior Industrial Park, Maiden Creek Township (Berks County); Site 4 (1,401 acres, 7 parcels)—within the International Trade District of York: Parcel A (1,097 acres)—manufacturing facility at 225 North Emigsville Road, York; Parcel B (27 acres)—East Berlin and Zarfoss Roads, York; Parcel C (37 acres)—York Rail Logistics, 2790 West Market Street, York; Parcel D (17 acres)—500 Lincoln Street, York (12 acres) and 160 & 222 N. Hartley Street (5 acres), York; Parcel E (7 acres)—Industrial Plaza of York, Roosevelt Avenue and West Philadelphia Street, York; Parcel F (2 acres)—Central York Warehouse, 100 East Hay Street, York; Parcel G (214 acres)—600 and 601 Memory Lane, York; Site 5 (57 acres, 6 parcels)—within the Penn Township Industrial Park (PTIP): Parcel A (11 acres)—762 Wilson Avenue, York; Parcel B (3 acres)—adjacent to Parcel A North, York; Parcel C (10 acres)—14 Barnhart Drive, York; Parcel D (2 acres)—16 Barnhart Drive, York; Parcel E (23 acres)—26 Barnhart Drive (15 acres) & 29 Barnhart Drive (8 acres), Hanover; Parcel F (9 acres)—PTIP Lots #32, 34, 37 and 38, adjoins Parcel E, York; Site 6 (27 acres)—Hanover Terminal, Center Street at CSXT Railroad, Hanover.

The applicant is requesting authority to reorganize the general-purpose zone by formally deleting the existing Parcel F (2 acres) of Site 4 and removing 500 acres of Site 4, Parcel A. The applicant is also requesting to add a 228-acre industrial park, 260 Hidden Lane, York County, to be designated as the new Parcel F of Site 4. The applicant is further requesting to delete Parcel B of Site 5 (Lot #11, 3 acres) and to replace it with a 24-acre site, located at 401 Moulstown Road in Penn Township, York County, PA.

The applicant also is requesting authority to expand the general-purpose zone to include 9 additional industrial sites in south central Pennsylvania, adjacent to the Harrisburg Customs port of entry: Proposed Site 7 (155 acres)—Greenspring Industrial Park, 305 Green Springs Road, York County; Site 8 (152 acres)—Fairview Business Park, McCarthy Drive and Industrial Drive, York County; Site 9 (182 acres, 3 parcels)—Parcel A (34 acres)—900 Kriner Road, Chambersburg; Parcel B (121 acres)—WCN Drive and Guilford Springs Road, Guilford Township, Franklin County; Parcel C (30 acres)—Guilford Springs Road, Guilford Township; Site 10 (1214 acres)—Cumberland Valley Business Park (formerly known as Letterkenny Army Depot), 5121A Coffey Avenue, Franklin County; Site 11 (310 acres)—Prologis Park 81, I-81 and Walnut Bottom Road, Cumberland County; Site 12 (242 acres)—LogistiCenter, Allen Road Extension and Distribution Drive, Carlisle; Site 13 (100 acres)—Capital Business Center, Dauphin County; Parcel A (11 acres)—400 First Street, Middletown; Parcel B (33 acres)—401 First Street, Middletown; Parcel C (16 acres)—400 First Street Expressway, Middletown; Parcel D (8 acres)—500 Industrial Lane, Middletown; Parcel E (15 acres)—600 Hunter Lane, Middletown; Parcel F (17 acres)—300 Hunter Lane, Middletown; Site 14 (164 acres)—Conewago Industrial Park, 1100 Zeager Road, Elizabethtown; and, Site 15 (70 acres)—LogistiCenter, 4950 Hanoverville Road, Bethlehem. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses below:

1. Submissions via Express/Package Delivery Services: Foreign-Trade Zones Board, U.S. Department of Commerce, Franklin Court Building—Suite 4100W, 1099 14th Street, NW., Washington, DC 20005; or

2. Submissions via U.S. Postal Service: Foreign-Trade Zones Board, U.S. Department of Commerce, FCB-4100W, 1401 Constitution Ave., NW., Washington, DC 20230.

The closing period for their receipt is May 9, 2005. Rebuttal comments in response to material submitted during the foregoing period may be submitted during the subsequent 15-day period (to May 23, 2005).

A copy of the application will be available for public inspection at the Office of the Foreign-Trade Zones Board's Executive Secretary at address No. 1 listed above and Foreign-Trade Zone Corporation of Southeastern Pennsylvania, 601 Penn Street, Suite 101, Reading, Pennsylvania 19601.

Dated: March 1, 2005.
Dennis Puccinelli,
Executive Secretary.

[FR Doc. 05-4617 Filed 3-8-05; 8:45 am]

BILLING CODE 3510-DS-P